DEPARTMENT OF HOMELAND SECURITY

Coast Guard

33 CFR Part 110

[CGD08-06-026]

RIN 1625-AA01

Anchorage Regulations; Sabine Pass Channel, Sabine Pass, TX

AGENCY: Coast Guard, DHS.

ACTION: Final rule.

SUMMARY: The Coast Guard has amended anchorage regulations for the Sabine Pass Channel, Sabine Pass, TX anchorage in order to improve navigation safety for vessels entering and exiting Cheniere Energy's liquefied natural gas terminal. This rule reduces the overall size of the existing anchorage.

DATES: This rule is effective February 5, 2007.

ADDRESSES: Documents indicated in this preamble as being available in the docket, are part of docket [CGD08-06-26] and are available for inspection or copying at U.S. Coast Guard D8, 500 Poydras Street, New Orleans, Louisiana 70130-3396 between 8 a.m. and 4 p.m., Monday through Friday, except Federal holidays.

FOR FURTHER INFORMATION CONTACT: Douglas Blakemore, Waterways Management Branch, Eighth Coast Guard District, 500 Poydras Street, New Orleans, LA 70130-3396. Telephone (504) 671-2109; facsimile (504) 671-2137. Please cite CGD08-06-026.

Regulatory Information

On October 3, 2006 we published a notice of proposed rulemaking (NPRM) entitled Anchorage Regulations; Sabine Pass Channel, Sabine Pass, TX in the Federal Register (71 FR 58330). We received 2 letters commenting on the proposed rule. No public meeting was requested and none was held.

Background and Purpose

Cheniere Energy is constructing a liquefied natural gas (LNG) terminal on the eastern waterfront of the Sabine Pass Channel. This facility is located immediately north and adjacent to the Sabine Pass Channel anchorage. Due to the angle that the terminal berth lays relative to the channel, vessels intending to berth at or depart the LNG terminal would have to follow a path that passes through the existing anchorage. Vessels anchored in the existing anchorage would be at an increased risk for being struck by an arriving or departing vessel.

In order to reduce this risk, the Coast Guard is reducing the overall size of the Sabine Pass Channel Anchorage. This action reduces the possible conflict associated with vessels that may anchor too close to the entrance of the LNG terminal. This rule also provides a larger maneuvering area for vessels arriving to or departing from the LNG terminal, which consequently will reduce the possibility of a grounding or collision with another vessel in the area.

Discussion of Comments and Changes

Both comments received support this rulemaking. Each commenter noted that reducing the size of the anchorage enhances the navigation safety of LNG carriers. One commenter also stated that the anchorage was infrequently used and would have minimal impact on the economy.

The current description of the anchorage is found in 33 CFR 110.196 and is listed as follows: “The navigable waters of Sabine Pass within a trapezoidal area 1,500 feet wide and varying uniformly in length from 5,800 feet to 3,000 feet with the long side adjacent to the northeasterly edge of Sabine Pass Channel at a location opposite the town of Sabine Pass.”

This rule shortens the “long side”, also referred to as the channel side, from 5,800 feet to approximately 5,000 feet. This is accomplished by shortening the northern portion of the “long side” by 800 feet. No other changes to the anchorage are made.

In order to eliminate confusion regarding the geographic boundary of the new anchorage, the existing description is replaced with geographic coordinates that define the boundary of the anchorage. The coordinates of the anchorage are as follows:

Latitude | Longitude
29°44′14″ N | 93°52′24″ W
29°44′18″ N | 93°52′06″ W
29°43′53″ N | 93°51′47″ W
29°43′32″ N | 93°51′52″ W

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary. Current information indicates that this anchorage area is rarely used, and the overall reduction in anchorage area would not significantly impact those vessels desiring to use the anchorage.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: The owners or operators of vessels intending to anchor in the Sabine Pass Channel, Sabine Pass, TX anchorage. This rule will not have a significant economic impact upon these entities since the affected portion of the anchorage area is believed to be rarely used.

Assistance for Small Entities

Under section 213(a) of the Small Business Regulatory Enforcement Fairness Act of 1996 (Pub. L. 104-121), we offered to assist small entities in understanding this rule so that they can better evaluate its effects on them and participate in the rulemaking process. However, we received no requests for assistance from any small entities. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule will call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(f), of the Instruction, from further environmental documentation because we are changing the size of the anchorage grounds.

List of Subjects in 33 CFR Part 110

Anchorage grounds.

For the reasons discussed in the preamble, the Coast Guard amends 33 CFR part 110 as follows:

PART 110—ANCHORAGE REGULATIONS

1. The authority citation for part 110 continues to read as follows:

Authority: 33 U.S.C. 471, 1221 through 1236, 2030, 2035, 2071; 33 CFR 1.05-1(g); Department of Homeland Security Delegation No. 0170.

2. In § 110.196, revise paragraph (a) to read as follows:

§ 110.196 Sabine Pass Channel, Sabine Pass, Texas.

(a) The anchorage area. The water bounded by a line connecting the following coordinates:

Latitude | Longitude
29°44′14″ N | 93°52′24″ W
29°44′18″ N | 93°52′06″ W
29°43′53″ N | 93°51′47″ W
29°43′32″ N | 93°51′52″ W

* * * * *

Dated: December 14, 2006.
J.R. Whitehead,
Rear Admiral, U.S. Coast Guard, Commander, Eighth Coast Guard District.

[FR Doc. E6-22586 Filed 1-4-07; 8:45 am]

BILLING CODE 4910-15-P